DEPARTMENT OF COMMERCE

International Trade Administration

[A-570-947, C-570-948]

Steel Grating From the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping (AD) and countervailing duty (CVD) orders on steel grating from the People's Republic of China (China) would likely lead to continuation or recurrence of dumping, net countervailable subsidies, and material injury to an industry in the United States, Commerce is publishing a notice of continuation of these AD and CVD orders.

DATES: Applicable June 1, 2021.

FOR FURTHER INFORMATION CONTACT: Kristen Ju (AD) or Daniel Alexander (CVD), AD/CVD Operations, Enforcement and Compliance, International Trade Administration, U.S. Department of Commerce, 1401 Constitution Avenue NW, Washington, DC 20230; telephone: (202) 482-3699 or (202) 482-4313, respectively.

SUPPLEMENTARY INFORMATION:

Background

On July 23, 2010, Commerce published both the AD and CVD orders on steel grating from China.¹ On October 1, 2020, the ITC instituted,² and on Commerce initiated,³ the second five-year (sunset) reviews of the AD and CVD orders on steel grating from China, pursuant to section 751(c) of the Tariff Act of 1930, as amended (the Act). As a result of its reviews, Commerce determined that revocation of the Orders on steel grating from China would be likely to lead to continuation or recurrence of dumping and countervailable subsidies and, therefore, notified the ITC of the magnitude of the margins and net subsidy rates likely to prevail should the Orders be revoked.⁴

¹ See Certain Steel Grating from the People's Republic of China: Antidumping Duty Order, 75 FR 43143 (July 23, 2010); see also Certain Steel Grating from the People's Republic of China: Countervailing Duty Order, 75 FR 43144 (July 23, 2010) (collectively, Orders).

² See Certain Steel Grating from China; Institution of Five-Year Reviews, 85 FR 61981 (October 1, 2020).

³ See Initiation of Five-Year (Sunset) Reviews, 85 FR 61928 (October 1, 2020).

⁴ See Certain Steel Grating from the People's Republic of Chain: Final Results of the Expedited Second Sunset Review of the Antidumping Duty Order, 86 FR 7356 (January 28, 2021), and accompanying Issues and Decision Memorandum (IDM); see also Certain Steel Grating from the People's Republic of Chain: Final Results of the Expedited Second Five-Year Sunset Review of the Countervailing Duty Order, 86 FR 8765 (February 9, 2021), and accompanying IDM.

On May 24, 2021, the ITC published its determinations, pursuant to sections 751(c) and 752(a) of the Act, that revocation of the Orders would likely lead to continuation or recurrence of material injury to an industry in the United States within a reasonably foreseeable time.⁵

⁵ See Certain Steel Grating from China, 86 FR 27892 (May 24, 2021); see also Certain Steel Grating from China (Inv. Nos. 701-TA-465 and 731-TA-1161 (Second Review), USITC Publication 5195, May 2021.

Scope of the Orders

The product covered by these Orders is certain steel grating, consisting of two or more pieces of steel, including load-bearing pieces and cross pieces, joined by any assembly process, regardless of: (1) Size or shape; (2) method of manufacture; (3) metallurgy (carbon, alloy, or stainless); (4) the profile of the bars; and (5) whether or not they are galvanized, painted, coated, clad or plated. Steel grating is also commonly referred to as “bar grating,” although the components may consist of steel other than bars, such as hot-rolled sheet, plate, or wire rod.

The scope of these Orders excludes expanded metal grating, which is comprised of a single piece or coil of sheet or thin plate steel that has been slit and expanded, and does not involve welding or joining of multiple pieces of steel. The scope of these Orders also excludes plank type safety grating which is comprised of a single piece or coil of sheet or thin plate steel, typically in thickness of 10 to 18 gauge, that has been pierced and cold formed, and does not involve welding or joining of multiple pieces of steel.

Certain steel grating that is the subject of these Orders is currently classifiable in the Harmonized Tariff Schedule of the United States (HTSUS) under subheading 7308.90.7000. While the HTSUS subheading is provided for convenience and customs purposes, the written description of the scope of these Orders is dispositive.

Continuation of the Orders

As a result of the determinations by Commerce and the ITC that revocation of the Orders would likely lead to a continuation or a recurrence of dumping and countervailable subsidies and of material injury to an industry in the United States, pursuant to section 751(d)(2) of the Act and 19 CFR 351.218(a), Commerce hereby orders the continuation of the Orders. U.S. Customs and Border Protection will continue to collect AD and CVD cash deposits at the rates in effect at the time of entry for all imports of subject merchandise.

The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with sections 751(c) and 751(d)(2) of the Act and published in accordance with section 777(i) of the Act, and 19 CFR 351.218(f)(4).

Dated: May 25, 2021.
Christian Marsh,
Acting Assistant Secretary for Enforcement and Compliance.

[FR Doc. 2021-11465 Filed 5-28-21; 8:45 am]

BILLING CODE 3510-DS-P